ENVIRONMENTAL PROTECTION AGENCY

[EPA-HQ-OPP-2017-0619; FRL-9978-22]

Agency Information Collection Activities; Proposed Renewal of an Existing Collection; Comment Request; Correction

AGENCY: Environmental Protection Agency (EPA).

ACTION: Notice; correction.

SUMMARY: EPA issued a notice in the Federal Register of May 8, 2018, concerning EPA's planned submission of an existing Information Collection Request (ICR) to the Office of Management and Budget (OMB) for review and renewed approval under the Paperwork Reduction Act (PRA). The ICR, entitled: “Pesticide Program Public Sector Collections (FIFRA Sections 18 & 24(c))” and identified by EPA ICR No. 2311.03 and OMB Control No. 2070-0182, represents the renewal of an existing ICR that is scheduled to expire on October 31, 2018. As indicated in that document, EPA is soliciting comments on the ICR and the agency's estimated burden hour and costs for those information collection activities. EPA intended that document to open a 60 day comment period, but there was an error in the DATES section that indicated the comment period already closed on April 30, 2018. This document corrects that typographical error.

FOR FURTHER INFORMATION CONTACT: Connie Hernandez, Field and External Affairs Division (7506P), Office of Pesticide Programs, Environmental Protection Agency, 1200 Pennsylvania Ave. NW, Washington, DC 20460-0001; telephone number: (703) 605-5190; email address: hernandez.connie@epa.gov.

SUPPLEMENTARY INFORMATION:

What does this correction do?

FR Doc. 2018-09774 published in the Federal Register of May 8, 2018 (83 FR 20182) (FRL-9973-40) is corrected in the DATES section to read as follows:

Comments must be received on or before July 9, 2018.

Authority: 44 U.S.C. 3501 et seq.

Dated: May 14, 2018.
Charlotte Bertrand,
Acting Principal Deputy Assistant Administrator, Office of Chemical Safety and Pollution Prevention.

[FR Doc. 2018-10694 Filed 5-17-18; 8:45 am]

BILLING CODE 6560-50-P